DEPARTMENT OF HOUSING AND URBAN DEVELOPMENT

[Docket No. FR-5760-N-03]

60-Day Notice of Proposed Information Collection: Community Challenge Planning Grant Program

AGENCY: Office of Economic Resilience (OER), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

The Department of Defense and Full-Year Continuing Appropriations Act, 2011 (Pub. L. 112-10, approved April 15, 2011) (Appropriations Act), provided a total of $100,000,000 to HUD for a Sustainable Communities Initiative to improve regional planning efforts that integrate housing and transportation decisions, and increase the capacity to improve land use and zoning. Of that total, $70,000,000 is available for the Sustainable Communities Regional Planning Grant Program, and $30,000,000 is available for the Community Challenge Planning Grant Program.

The Consolidated Appropriations Act, 2010 (Pub. L. 111-117, December 16, 2009), provided a total of $150 million in fiscal year 2010 to HUD for a Sustainable Communities Initiative to improve regional planning efforts that integrate housing and transportation decisions, and increase the capacity to improve land use and zoning.

HUD is seeking renewal of its Community Challenge Planning Grant Program. The changes of this renewal from its original approval will be a reduction in burden hours. This reduction is due to no new award funds for the program; thus, form HUD-96011 and form HUD-2880 are no longer needed. Those two forms were utilized during the awarding process of the program. With no new award funds expected, these forms will be no longer needed for this program. Only form HUD-424-CBW will continue to be needed as this form is used to record and manage detailed budgetary expenditures and projections of HUD award funds and match funds spent toward grant activities.

DATES: Comments Due Date: January 27, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Kathryn Dykgraaf, Office of Economic Resilience, Department of Housing and Urban Development, 451 7th Street SW., Washington, DC 20410, telephone (202) 402-6731 (this is not a toll free number) for copies of the proposed forms and other available information.

SUPPLEMENTARY INFORMATION: This notice informs the public that HUD is seeking approval from OMB for the information collection described in Section A.

A. Overview of Information Collection

Title of Information Collection: Community Challenge Planning Grant Program.

OMB Approval Number: 2501-0025.

Type of Request: Extension of currently approved collection.

Form Number: HUD-424-CBW.

Description of the need for the information and proposed use: HUD is seeking approval from OMB for the information collection described below. In accordance with the Paperwork Reduction Act, HUD is requesting comment from all interested parties on the proposed collection of information. The purpose of this notice is to allow for 60 days of public comment.

The Department of Defense and Full-Year Continuing Appropriations Act, 2011 (Pub. L. 112-10, approved April 15, 2011) (Appropriations Act), provided a total of $100,000,000 to HUD for a Sustainable Communities Initiative to improve regional planning efforts that integrate housing and transportation decisions, and increase the capacity to improve land use and zoning. Of that total, $70,000,000 is available for the Sustainable Communities Regional Planning Grant Program, and $30,000,000 is available for the Community Challenge Planning Grant Program.

The Consolidated Appropriations Act, 2010 (Pub. L. 111-117, December 16, 2009), provided a total of $150 million in fiscal year 2010 to HUD for a Sustainable Communities Initiative to improve regional planning efforts that integrate housing and transportation decisions, and increase the capacity to improve land use and zoning.

HUD is seeking renewal of its Community Challenge Planning Grant Program. The changes of this renewal from its original approval will be a reduction in burden hours. This reduction is due to no new award funds for the program; thus, form HUD-96011 and form HUD-2880 are no longer needed. Those two forms were utilized during the awarding process of the program. With no new award funds expected, these forms will be no longer needed for this program. Only form HUD-424-CBW will continue to be needed as this form is used to record and manage detailed budgetary expenditures and projections of HUD award funds and match funds spent toward grant activities.

Respondents: Community Challenge Planning Grant Program recipients (grantees).

Information collection | Number of respondents | Frequency of response | Responses per annum | Burden hour per response | Annual burden hours | Hourly cost per response | Annual cost
Total | 56 | 1 | 56 | 0.5 | 28 | $40.00 | $1,120.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 12, 2014.
Harriet Tregoning,
Director, Office of Economic Resilience, Department of Housing and Urban Development.

[FR Doc. 2014-28138 Filed 11-26-14; 8:45 am]

BILLING CODE 4210-67-P